DEPARTMENT OF COMMERCE

Census Bureau

Proposed Information Collection; Comment Request; Current Industrial Reports Surveys (Mandatory and Voluntary Surveys)

AGENCY: U.S. Census Bureau.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before June 20, 2008.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument(s) and instructions should be directed to Mendel D. Gayle, Census Bureau, 4600 Silver Hill Rd. Rm. 7K055, Washington, DC 20233, (301) 763-4587 or via the Internet at mendel.d.gayle@census.gov.

SUPPLEMENTARY INFORMATION

I. Abstract

The Census Bureau plans to request a revision of the currently approved Office of Management and Budget (OMB) clearance of the Current Industrial Reports (CIR) Program. The Census Bureau conducts a series of monthly, quarterly, and annual surveys as part of the Current Industrial Reports (CIR) program. The CIR surveys deal mainly with the quantity and value of shipments of particular products and occasionally with data on production and inventories; unfilled orders, receipts, stocks and consumption; and comparative data on domestic production, exports, and imports of the products they cover. These surveys provide continuing and timely national statistical data on manufacturing. Individual firms, trade associations, and market analysts use the results of these surveys extensively in planning or recommending marketing and legislative strategies.

The CIR program includes both mandatory and voluntary surveys. Typically, the monthly and quarterly surveys are conducted on a voluntary basis and annual collections are mandatory. The collection frequency of individual CIR surveys is determined by the cyclical nature of production, the need for frequent trade monitoring, or the use of data in Government economic indicator series. Some monthly and quarterly CIR surveys have an annual “counterpart” collection. The annual counterpart collects annual data on a mandatory basis from those firms not participating in the more frequent collection.

Previously, the CIR surveys were divided among three separate waves and submitted separately for OMB review. Due to the reduced number of surveys in the CIR program, the CIR surveys are being combined into one wave. The surveys included are:

Mandatory surveys | Voluntary surveys
MA311D—Confectionery | *M336G—Civil Aircraft and Aircraft Engines
MA325F—Paint and Allied Products | *M327G—Glass Containers
MA327C—Refractories | *MQ325B—Fertilizer Materials
MA331B—Steel Mill Products | *MQ327D—Clay Construction Products
MA332Q—Antifriction Bearings | *MQ315B—Socks
MA333A—Farm Machinery | *MQ311A—Flour Milling Products
MA333M—Air Conditioning and Refrigeration | *MQ325A—Inorganic Chemicals
MA333N—Fluid Power Products for Motion Control (Including Aerospace) | MQ325F—Paint, Varnish, and Lacquer
MA335F—Major Household Appliances | MQ334P—Telecommunications
MA335K—Wiring Devices and Supplies | MQ334R—Computers & Peripheral Equipment
MA314Q—Carpets and Rugs
MA321T—Lumber Production and Mill Stocks | *These voluntary surveys have mandatory annual counterparts.
MA325G—Pharmaceutical Preparations, except Biologicals
MA333P—Pumps and Compressors
MA335E—Electric Housewares and Fans
MA335J—Insulated Wire and Cable
MA336G—Aerospace Industry
M311H—Fats and Oils (Warehouse)
M311L—Fats and Oils (Renderers)
M311M—Fats and Oils (Consumers)
M311N—Fats and Oils (Producers)
MA327E—Consumer, Scientific, Technical, and Industrial Glassware
MA333D—Construction Machinery
MA333F—Mining, Machinery and Mineral Processing Equipment
MA334C—Control Instruments
MA334D—Defense, Navigational, & Aerospace Electronics
MA334T—Meters & Test Devices
MA334M—Consumer Electronics
MA334Q—Semiconductors, Printed Circuit Boards, and Other Electronic Components
MA336G—Aerospace Industry
M311J—Oilseeds, Beans, and Nuts (Primary Producers)
M313N—Cotton and Raw Linters in Public Storage
M313P—Consumption on the Cotton System and Stocks
MQ313A—Textiles
MQ315A—Apparel
MQ333W—Metalworking Machinery
M311C—Corn (Wet & Dry Producers of Ethanol)

II. Method of Collection

The Census Bureau will use mail out/mail back survey forms to collect data. It is requested that respondents return monthly report forms within 10 days, quarterly report forms within 15 days, and annual report forms within 30 days of the initial mailing. Telephone calls and/or letters encouraging participation will be mailed to respondents who have not responded by the designated time.

III. Data

OMB Control Number: 0607-0476.

Form Number: See Chart Above.

Type of Review: Regular submission.

Affected Public: Business or other for-profit organizations.

Estimated Number of Respondents: 20,184.

Estimated Time per Response: 49 minutes.

Estimated Total Annual Burden Hours: 28,280.

Estimated Total Annual Cost: $0.

Respondent's Obligation: Mandatory, voluntary.

Legal Authority: Title 13, United States Code, sections 61, 182, 224, and 225.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 15, 2008.
Gwellnar Banks,
Management Analyst, Office of the Chief Information Officer.

[FR Doc. E8-8426 Filed 4-18-08; 8:45 am]

BILLING CODE 3510-07-P